DEPARTMENT OF LABOR

Employment and Training Administration

[TA-W-51,625]

Motorola, Inc.; iDen Radio Support Center; Elgin, IL; Notice of Negative Determination Regarding Application for Reconsideration

By application of June 21, 2003, a petitioner requested administrative reconsideration of the Department's negative determination regarding eligibility for workers and former workers of the subject firm to apply for Trade Adjustment Assistance (TAA). The denial notice applicable to workers of Motorola, Inc., iDen Radio Support Center, Elgin, Illinois was signed on May 20, 2003, and published in the Federal Register on June 3, 2003 (68 FR 33195).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The TAA petition was filed on behalf of workers at Motorola, Inc., iDen Radio Support Center, Elgin, Illinois engaged in activities related to the repair of iDEN cellular radios. The petition was denied because the petitioning workers did not produce an article within the meaning of Section 222 of the Act.

The petitioner questions why the repair work performed at the subject facility does not constitute production.

The Department of Labor, has consistently considered repair work a “service”. Further, the North American Industrial Classification System (NAICS), is a standard used by the Department to categorize products and services. Both the 1997 and 2002 editions of the NAICS designate the repair of telephones and two-way radios as classified within a code that signifies services (specifically NAICS 811213).

Only in very limited instances are service workers certified for TAA, namely the worker separations must be caused by a reduced demand for their services from a parent or controlling firm or subdivision whose workers produce an article and who are currently under certification for TAA.

Conclusion

After review of the application and investigative findings, I conclude that there has been no error or misinterpretation of the law or of the facts which would justify reconsideration of the Department of Labor's prior decision. Accordingly, the application is denied.

Signed at Washington, DC, this 18th day of July, 2003.
Elliott S. Kushner,
Certifying Officer, Division of Trade Adjustment Assistance.

[FR Doc. 03-19223 Filed 7-28-03; 8:45 am]

BILLING CODE 4510-30-U